DEPARTMENT OF TRANSPORTATION

Federal Highway Administration

Notice of Final Federal Agency Actions on Proposed Highway in California

AGENCY: Federal Highway Administration (FHWA), DOT.

ACTION: Notice of Limitation on Claims for Judicial Review of Actions by California Department of Transportation (Caltrans) pursuant to 23 U.S.C. 327.

SUMMARY: The FHWA, on behalf of Caltrans, is issuing this notice to announce actions taken by Caltrans that are final within the meaning of 23 U.S.C. 139(l)(1). The actions relate to a proposed highway project, Interstate 15 at Duncan Canyon Road (post mile [PM] 9.82 to PM 11.94) in the City of Fontana, San Bernardino County, State of California. Those actions grant licenses, permits, and approvals for the project.

DATES: By this notice, the FHWA, on behalf of Caltrans, is advising the public of final agency actions subject to 23 U.S.C. 139(l)(1). A claim seeking judicial review of the Federal agency actions on the highway project will be barred unless the claim is filed on or before April 17, 2011. If the Federal law that authorizes judicial review of a claim provides a time period of less than 180 days for filing such claim, then that shorter time period still applies.

FOR FURTHER INFORMATION CONTACT: For Caltrans: Kurt Heidelberg, Senior Environmental Planner, Environmental Studies “D” Branch Chief, California Department of Transportation, District 8, 464 W. 4th Street, 6th Floor MS-820, San Bernardino, CA 92401-1400; weekdays 8 a.m. to 4 p.m. (Pacific Time); telephone 909-388-7028; e-mail Kurt_Heidelberg @dot.ca.gov.

SUPPLEMENTARY INFORMATION: Effective July 1, 2007, the FHWA assigned, and the California Department of Transportation (Caltrans) assumed environmental review and consultation responsibilities for this project pursuant to 23 U.S.C. 327. Notice is hereby given that Caltrans has taken final agency actions subject to 23 U.S.C. 139(l)(1) by issuing licenses, permits, and approvals for the following highway project in the State of California: The proposed project will construct a new interchange on Interstate 15 (I-15) at the existing Duncan Canyon Road overcrossing (Bridge No. 54-980, Post Mile [PM] 11.03) in the City of Fontana, San Bernardino County, California. The proposed interchange will be constructed south of the existing Sierra Avenue Interchange (PM 12.84) and north of the existing Summit Avenue Interchange (PM 9.60) along I-15. The purpose of the project is to: reduce congestion at the existing I-15/Sierra Avenue and I-15/Summit Avenue Interchanges by providing an additional access point to I-15; provide improved regional connectivity to the local transportation network, in conjunction with a number of locally planned roadway improvements; and, provide intersection and interchange improvements that are consistent with existing and planned local development. The actions by the Federal agencies, and the laws under which such actions were taken, are described in the Final Environmental Assessment (EA)/Finding of No Significant Impact (FONSI) for the project, approved on November 3, 2009, and in other documents in the FHWA project records. The EA/FONSI and other project records are available by contacting Caltrans at the address provided above. The EA/FONSI is also available for viewing at California Department of Transportation, District 8, 464 West Fourth Street, San Bernardino, California 92401-1400.

This notice applies to all Federal agency decisions as of the issuance date of this notice and all laws under which such actions were taken, including but not limited to:

1. General: National Environmental Policy Act (NEPA) [42 U.S.C. 4321-4351]; Federal-Aid Highway Act [23 U.S.C. 109 and 23 U.S.C. 128].

2. Farmland: Farmland Protection Policy Act.

3. Hazards: Resource Conservation and Recovery Act of 1976; Comprehensive Environmental Response, Compensation and Liability Act of 1980; Toxic Substances Control Act; Community Environmental Response Facilitation Act of 1992; Occupational Safety and Health Act.

4. Social: Uniform Relocation Assistance and Real Property Acquisition Policies Act of 1970; Title VI of the Civil Rights Act; Americans with Disabilities Act.

5. Cultural Resources/National Landmarks/Paleontology: National Historic Preservation Act of 1966; Historic Sites Act of 1935; Antiquities Act of 1906.

6. Air: Clean Air Act (amended 1990).

7. Biological Resources: Federal Endangered Species Act; Fish and Wildlife Coordination Act; Migratory Bird Treaty Act.

8. Wetlands and Water Resources: Clean Water Act; Safe Drinking Water Act; Flood Disaster Protection Act.

9. Executive Orders: 11990, Protection of Wetlands; 11988, Floodplain Management; 12088, Federal Compliance with Pollution Control; 12898, Federal Actions to Address Environmental Justice in Minority Populations and Low-Income Populations; 13112, Invasive Species.

(Catalog of Federal Domestic Assistance Program Number 20.205, Highway Planning and Construction. The regulations implementing Executive Order 12372 regarding intergovernmental consultation on Federal programs and activities apply to this program.)

Authority: 23 U.S.C. 139(l)(1).

Issued on: February 14, 2011.
Shawn E. Oliver,
South Team Leader, State Programs, Federal Highway Administration, Sacramento, California.

[FR Doc. 2011-3701 Filed 2-17-11; 8:45 am]

BILLING CODE 4910-RY-P